DEPARTMENT OF COMMERCE

International Trade Administration

[A-570-905]

Second Antidumping Duty Administrative Review of Certain Polyester Staple Fiber From the People's Republic of China: Extension of Time Limit for the Final Results

Agency: Import Administration, International Trade Administration, Department of Commerce.

Dates: Effective Date: October 20, 2010.

For Further Information Contact: Steven Hampton or Jerry Huang, AD/CVD Operations, Office 9, Import Administration, International Trade Administration, U.S. Department of Commerce, 14th Street and Constitution Avenue, NW., Washington, DC 20230; telephone: (202) 482-0116 or (202) 482-4047, respectively.

Background

On July 14, 2010, the Department of Commerce (“Department”) published in the Federal Register the Preliminary Results of the second administrative review of certain polyester staple fiber (“PSF”) from the People's Republic of China (“PRC”), covering the period June 1, 2008-May 31, 2009. Certain Polyester Staple Fiber From the People's Republic of China: Notice of Preliminary Results and Preliminary Rescission, in Part, of the Antidumping Duty Administrative Review, 75 FR 40777 (July 14, 2010) (“Preliminary Results”).

Extension of Time Limit for the Preliminary Results

Section 751(a)(3)(A) of the Tariff Act of 1930, as amended (“the Act”), requires the Department to issue the final results of an administrative review within 120 days after the date on which the Preliminary Results have been published. If it is not practicable to complete the review within the time period, section 751(a)(3)(A) of the Act allows the Department to extend this deadline to a maximum of 180 days. The current deadline for the completion of the final results of this review is November 11, 2010.

The Department has determined that completion of the final results of this review by the current deadline is not practicable. The Department requires more time to analyze a significant amount of information pertaining to the respondents' corporate structure and ownership, sales practices and manufacturing methods, as well as the labor wage rate surrogate value. Therefore, given the number and complexity of issues in this case, and in accordance with section 751(a)(3)(A) of the Act, we are extending the time period for issuing the final results of review until December 20, 2010.

This notice is published pursuant to sections 751(1)(3)(A) and 777(i)(1) of the Act and 19 CFR 351.213(h)(2).

Dated: October 13, 2010.
Susan H. Kuhbach,
Acting Deputy Assistant Secretary for Antidumping and Countervailing Duty Operations.

[FR Doc. 2010-26457 Filed 10-19-10; 8:45 am]

BILLING CODE 3510-DS-P